DEPARTMENT OF COMMERCE

International Trade Administration

[A-533-871]

Finished Carbon Steel Flanges From India: Final Results of Antidumping Duty Administrative Review; 2021-2022; Correction

AGENCY: Enforcement and Compliance, International Trade Administration, Department of Commerce.

ACTION: Notice; correction.

SUMMARY: The U.S. Department of Commerce (Commerce) published notice in the Federal Register of December 22, 2023 in which Commerce announced the final results of the 2021-2022 administrative review of the antidumping duty (AD) order on finished carbon steel flanges from India. This notice contained an appendix that included an incorrect list of companies not selected for individual examination.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Correction

In the Federal Register of December 22, 2023, in FR DOC 28265, on page 88584, remove the following names from the Appendix: Bansidhar Chiranjilal; Norma (India) Limited; R. N. Gupta & Company Limited; Uma Shanker Khandelwal & Co.; and USK Exports Private Limited.

Background

On December 22, 2023, Commerce published in the Federal Register the final results of the administrative review of the AD order on finished carbon steel flanges from India.¹ The Appendix in the Final Results was intended to be a list of companies not selected for individual examination. However, it mistakenly included companies that were selected for individual examination, specifically Bansidhar Chiranjilal, Norma (India) Limited, R. N. Gupta & Company Limited, Uma Shanker Khandelwal & Co., and USK Exports Private Limited. Commerce will ensure that the cash deposit and liquidation instructions it issues to U.S. Customs and Border Protection following publication of this correction notice reflect the application of the dumping margin determined in the Final Results for the non-selected companies listed in the Appendix to this notice. A corrected list of companies not selected for individual examination is in the Appendix of this notice.

¹ See Finished Carbon Steel Flanges from India: Final Results of Antidumping Duty Administrative Review; 2021-2022, 88 FR 88582 (December 22, 2023) (Final Results).

Notification to Interested Parties

This notice is issued and published in accordance with sections 751(a) and 777(i) of the Tariff Act of 1930, as amended, and 19 CFR 351.205(c).

Dated: February 7, 2024.
Ryan Majerus,
Deputy Assistant Secretary for Policy and Negotiations, performing the non-exclusive functions and duties of the Assistant Secretary for Enforcement and Compliance.

Appendix

Non-Selected Respondent Companies

1. Adinath International.

2. Allena Group.

3. Alloyed Steel.

4. Balkrishna Steel Forge Pvt. Ltd.

5. Bebitz Flanges Works Private Limited.

6. BFN Forgings Private Limited.

7. C.D. Industries.

8. Cetus Engineering Private Limited.

9. CHW Forge.

10. CHW Forge Pvt. Ltd.

11. Citizen Metal Depot.

12. Corum Flange.

13. DN Forge Industries.

14. Echjay Forgings Limited.

15. Falcon Valves and Flanges Private Limited.

16. Heubach International.

17. Hindon Forge Pvt. Ltd.

18. Jai Auto Private Limited.

19. Kinnari Steel Corporation.

20. M F Rings and Bearing Races Ltd.

21. Mascot Metal Manufactures.

22. Munish Forge Private Limited.

23. OM Exports.

24. Punjab Steel Works (PSW).

25. R. D. Forge.

26. Raaj Sagar Steel.²

² Commerce initiated on this company as Raaj Sagar Steel. See Initiation of Antidumping and Countervailing Duty Administrative Reviews, 87 FR 61278, 61280 (October 11, 2022). We are treating this company as identical to Raaj Sagar Steels on whom Commerce initiated a review in all prior administrative reviews of this order. See Initiation of Antidumping and Countervailing Duty Administrative Reviews, 86 FR 55811, 55813 (October 7, 2021); see also Initiation of Antidumping and Countervailing Duty Administrative Reviews, 85 FR 63081, 63083 (October 6, 2020); Initiation of Antidumping and Countervailing Duty Administrative Reviews, 84 FR 53411, 53413 (October 7, 2019); and Initiation of Antidumping and Countervailing Duty Administrative Reviews, 83 FR 50077, 50079 (October 4, 2018).

27. Ravi Ratan Metal Industries.

28. Rolex Fittings India Pvt. Ltd.

29. Rollwell Forge Engineering Components and Flanges.

30. Rollwell Forge Pvt. Ltd.

31. SHM (ShinHeung Machinery).

32. Siddhagiri Metal & Tubes.

33. Sizer India.

34. Steel Shape India.

35. Sudhir Forgings Pvt. Ltd.

36. Tirupati Forge.

37. Umashanker Khandelwal Forging Limited.

[FR Doc. 2024-02969 Filed 2-12-24; 8:45 am]

BILLING CODE 3510-DS-P